DEPARTMENT OF JUSTICE

Notice of Lodging of Consent Decree Pursuant to the Comprehensive Environmental Response Compensation and Liability Act (“CERCLA”)

Notice is hereby given that a proposed consent decree in United States v. Julie Deutschumann, Civ. No. 02-10240 (MEL), was lodged with the United States District Court for the District of Massachusetts on July 15, 2002, (“Consent Decree”). The Consent Decree resolves the liability of Julie Deutschmann, (“Settling Defendant”), the sole current owner of the Toka Renbe Farm Superfund Site in Canton, Massachusetts (“Site”) for the recovery of costs incurred by the United States in response to releases and threatened releases of hazardous substances at the Site pursuant to Sections 107(a) and 113 of the Comprehensive Environmental Response, Compensation, and Recovery Act, as amended (“CERCLA”), 42 U.S.C. 9607(a) and 9613. EPA has incurred at least $5,765,632.19 in response costs relating to this Site. The United States filed its Complaint on behalf of EPA on February 13, 2002.

This is an ability to pay settlement based upon expert review of financial documentation provided to the United States by the Settling Defendant. This settlement calls for the liquidation of all real estate owned by the Settling Defendant, except for her residence, in addition to an up-front cash payment to the United States and a cash payment to fund a trust for the purpose of liquidating real property for the benefit of the United States. The value of the settlement is estimated to be $2,500,000.

The Department of Justice will receive, for a period of thirty (30) days from the date of this publication, comments relating to the proposed Consent Decree. Comments should be addressed to the Assistant Attorney General, Environment and Natural Resources Division, P.O. Box 7611, U.S. Department of Justice, Washington, DC 20044-7611, and should refer to United States v. Julie Deutschmann, DOJ Ref. #90-11-2-1032/1.

The proposed Consent Decree may be examined at the office of the United States Attorney for the District of Massachusetts, 1 Court House Way, U.S. Courthouse, Suite 9200, Boston, Massachusetts 02210 (contact Assistant United States Attorney George B. Henderson, II); and the Region I Office of the Environmental Protection Agency, One Congress Street, Suite 1100, Boston, Massachusetts, 02114-2023 (contact Senior Enforcement Counsel, Catherine Garypie). A copy of the proposed Consent Decree may be obtained by mail from the Consent Decree Library, P.O. BOx 7611, Washington, DC 20044-7611 or by faxing a request to Tonia Fleetwood, fax no. (202) 514-0097, phone confirmation number (202) 514-1547. In requesting a copy please refer to the referenced case and enclose a check in the amount of $11.75 (25 cents per page reproduction costs) for the Consent Decree, payable to the U.S. Treasury.

Ronald Gluck,
Assistant Section Chief, Environmental Enforcement Section, Environment and Natural Resources Division.

[FR Doc. 02-18753 Filed 7-24-02; 8:45 am]

BILLING CODE 4410-15-M